DEPARTMENT OF DEFENSE

Office of the Secretary

[Docket ID: DoD-2014-OS-0095]

Privacy Act of 1974; System of Records

AGENCY: Defense Information Systems Agency, DoD.

ACTION: Notice to amend three Systems of Records.

SUMMARY: The Defense Information Systems Agency is amending three systems of records notices in its existing inventory of record systems subject to the Privacy Act of 1974, as amended. These systems are updating their retention and disposal category. The systems are KWHC 08, DefenseReady, K890.15 DoD, Active Directory Enterprise Application and Services Forest (AD EASF), and KD3D.01, Continuity of Operations Plans.

DATES: Comments will be accepted on or before July 16, 2014. This proposed action will be effective on the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jeanette Weathers-Jenkins, DISA Privacy Officer, Chief Information Office, 6916 Cooper Avenue, Fort Meade, MD 20755-7901, or by phone at (301)225-8158.

SUPPLEMENTARY INFORMATION: The Defense Information Systems Agency systems of records notices subject to the Privacy Act of 1974 (5 U.S.C. 552a), as amended, have been published in the Federal Register and are available from the address in FOR FURTHER INFORMATION CONTACT or at http://dpclo.defense.gov/.

The proposed changes to the record systems being amended are set forth in this notice. The proposed amendments are not within the purview of subsection (r) of the Privacy Act of 1974 (5 U.S.C. 552a), as amended, which requires the submission of a new or altered system report.

Dated: June 11, 2014.
Aaron Siegel,
Alternate OSD Federal Register Liaison Officer, Department of Defense.

KWHC 08

System name:

DefenseReady (November 26, 2013, 78 FR 70543).

Changes:

* * * * *

Retention and disposal:

Delete entry and replace with “TEMPORARY: Records are maintained for 6 years, then destroyed.”

* * * * *

K890.15 DoD

System name:

Active Directory Enterprise Application and Services Forest (AD EASF) (December 8, 2010, 75 FR 76426)

Changes:

* * * * *

Retention and disposal:

Delete entry and replace with “Delete when the agency determines records are no longer needed for administrative, legal, audit, or other operational purposes.”

* * * * *

KD3D.01

System name:

Continuity of Operations Plans (August 2, 2013, 78 FR 46929)

Changes:

* * * * *

Retention and disposal:

Delete entry and replace with “PERMANENT. Cut off on supersession. Offer to NARA in 5-year blocks when 25 years old.”

* * * * *

[FR Doc. 2014-13970 Filed 6-13-14; 8:45 am]

BILLING CODE 5001-06-P